DEPARTMENT OF ENERGY

Federal Energy Regulatory Commission

[Project No. 13570-002]

Notice of Scoping Meetings and Environmental Site Review and Soliciting Scoping Comments: Warmsprings Irrigation District

Take notice that the following hydroelectric application has been filed with Commission and is available for public inspection:

a. Type of Application: New Minor License.

b. Project No.: 13570-002.

c. Date filed: April 15, 2013.

d. Applicant: Warmsprings Irrigation District (WSID).

e. Name of Project: Warm Springs Dam Hydroelectric Project.

f. Location: The Warm Springs Dam Hydroelectric Project would be located on the Malheur River in Malheur County, Oregon, near the Town of Juntura. It would occupy 13.5 acres of federal land.

g. Filed Pursuant to: Federal Power Act, 16 U.S.C. 791(a)-825(r).

h. Applicant Contact: Mr. Randy Kinney, Warmsprings Irrigation District, 334 Main Street North, Vale, OR 97918; (541) 473-3951.

i. FERC Contact: Ken Wilcox, ken.wilcox@ferc.gov, (202) 502-6835.

j. Deadline for filing scoping comments: May 31, 2014.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13570-002.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The Warm Springs Dam Hydroelectric Project would utilize the existing Warm Springs Dam and reservoir and would consist of the following new facilities: (1) A steel liner fitted into one of two existing outlets in the right abutment of the dam; (2) a 150-foot-long, 8-foot-diameter steel penstock and increaser section conveying water from the outlet works to a powerhouse located at the stilling basin immediately downstream of the dam; (3) a 34-foot-wide by 36-foot-long powerhouse containing one 2.7-megawatt (MW) Francis or Kaplan turbine; (4) 2.2-mile-long, 25-kilovolt (kV) transmission line; and (5) appurtenant facilities. The project would occupy 13.5 acres of federal land.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process: The Commission intends to prepare an Environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization concerns, while the public scoping meeting is primarily for public input. All interested individuals, organizations, and agencies are invited to attend one or both of the meetings, and to assist the staff in identifying the scope of the environmental issues that should be analyzed in the EA.

The times and locations of these meetings are as follows:

Public Scoping Meeting

DATE: Wednesday, April 30, 2014

TIME: 7:00 p.m. (MDT)

PLACE: Juntura Elementary School

ADDRESS: 5855 6th Street, Juntura, Oregon

Agency Scoping Meeting

DATE: Thursday, May 1, 2014

TIME: 9:00 a.m. (PDT)

PLACE: Harney County Community Center

ADDRESS: 484 N. Broadway, Burns, Oregon

Copies of the Scoping Document (SD1) outlining the subject areas to be addressed in the EA were distributed to the parties on the Commission's mailing list. Copies of the SD1 will be available at the scoping meeting or may be viewed on the Web at http://www.ferc.gov using the “eLibrary” link (see item m above).

Environmental Site Review

The Applicant and FERC staff will conduct a project Environmental Site Review beginning at 2:00 p.m. (MDT) on Wednesday, April 30, 2014. All interested individuals, organizations, and agencies are invited to attend. All participants should meet near the bridge on Warm Springs Road one-half mile south of Warm Springs Dam. Alternatively, attendees may meet at the Oasis Cafe in Juntura (5838 Highway 20) at 1:15 p.m. to follow staff to the site near the bridge. All participants are responsible for their own transportation to the site. Anyone with questions about the Environmental Site Review should contact Mr. Randy Kinney of Warmsprings Irrigation District at (541) 473-3951. PLEASE NOTE: Juntura and Warm Springs Dam are located within the Mountain Time Zone; Burns is in the Pacific Time Zone.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: April 2, 2014.
Kimberly D. Bose,
Secretary.

[FR Doc. 2014-08041 Filed 4-9-14; 8:45 am]

BILLING CODE 6717-01-P